DEPARTMENT OF VETERANS AFFAIRS

Notice of Availability of a Final Environmental Impact Statement for the San Francisco VA Medical Center Long Range Development Plan

AGENCY: Department of Veterans Affairs.

ACTION: Notice of availability.

SUMMARY: The Department of Veterans Affairs (VA), San Francisco VA Medical Center (SFVAMC) announces the availability of the Final Environmental Impact Statement (EIS) for the Long Range Development Plan (LRDP). Pursuant to the National Environmental Policy Act (NEPA) of 1969, as amended (42 U.S.C. 4331 et seq.), the Council on Environmental Quality Regulations for Implementing the Procedural Requirements of NEPA (40 CFR parts 1500-1508) and VA's implementing Regulations (38 CFR part 26), VA has considered comments received on the Supplemental Draft EIS and has prepared the Final EIS. The LRDP describes development and construction of patient care buildings, research buildings, business occupancy buildings, and parking structures, as well as retrofitting seismically deficient buildings. The Final EIS identifies and addresses environmental impacts associated with the Proposed Action.

FOR FURTHER INFORMATION CONTACT: Robin Flanagan, San Francisco Veterans Affairs Medical Center, 4150 Clement Street, San Francisco, CA 94121 or by telephone, (415) 750-2049. The SFVAMC 2014 LRDP and Final EIS are available for viewing on the SFVAMC Web site: http://www.sanfrancisco.va.gov/planning.

SUPPLEMENTARY INFORMATION: VA operates the SFVAMC, located at Fort Miley in San Francisco, California. It is the only VA medical center in the City and County of San Francisco and VA considers it an aging facility that needs to be retrofitted and expanded. SFVAMC has identified a need for retrofitting existing buildings to the most recent seismic safety requirements and for an additional 589,000 gross square feet (gsf) of medical facility space to meet the needs of San Francisco Bay Area and northern California coast Veterans over the next 15 years.

Purpose and Need for Action

SFVAMC, the only VA medical center in San Francisco County, has major space and parking deficiencies at its existing Fort Miley Campus. The mission of SFVAMC is to continue to be a major primary and tertiary care healthcare center providing cost-effective and high-quality care to eligible Veterans in the San Francisco Bay Area and North Coast. SFVAMC strives to deliver needed care to Veterans while contributing to health care knowledge through research. VA can better meet its mission by integrating clinical care, education, and research, because such integration makes for more efficient and progressive overall care for Veterans. SFVAMC is also a ready resource for Department of Defense (DoD) as backup for federal emergencies and serves as the local Federal Coordinating Center (FCC) in the event of a national emergency. New major construction initiatives would provide seismic improvements and additional facility space over the next 15 years that will improve access to care for Veterans. The Proposed Action is needed for SFVAMC to continue to serve the ever-changing needs of the growing Veteran population and to provide appropriate space and facilities to conduct important research.

Proposed Action

The Proposed Action is an LRDP that supports the mission of SFVAMC to provide for the health care needs of Bay Area and North Coast Veterans by providing for the renovation, expansion, and operation of the SFVAMC Fort Miley Campus. This action addresses SFVAMC current and future capacity issues and changing health care needs of our growing Veteran population. This is done by providing safe and appropriate facilities that provide health care, education, and much needed research.

Signing Authority

The Secretary of Veterans Affairs, or designee, approved this document and authorized the undersigned to sign and submit the document to the Office of the Federal Register for publication electronically as an official document of the Department of Veterans Affairs. Robert L. Nabors II, Chief of Staff, approved this document on June 19, 2015 for publication.

Approved: June 22, 2015.
Michael P. Shores,
Chief Impact Analyst, Office of Regulation Policy and Management, Office of General Counsel.

[FR Doc. 2015-15610 Filed 6-24-15; 8:45 am]

BILLING CODE 8320-01-P